DEPARTMENT OF HOMELAND SECURITY

Coast Guard

33 CFR Part 117

[Docket No. USCG-2010-0311]

Drawbridge Operation Regulation; Mermentau River, Mermentau, LA

AGENCY: Coast Guard, DHS.

ACTION: Notice of temporary deviation from regulations.

SUMMARY: The Commander, Eighth Coast Guard District, has issued a temporary deviation from the regulation governing the operation of the Burlington Northern Santa Fe Railroad swing span bridge across the Mermentau River, mile 68.0, at Mermentau, Acadia and Jefferson Davis Parishes, Louisiana. The deviation is necessary to replace the top flanges on four floor beams. This deviation allows the bridge to remain closed to navigation for ten days.

DATES: This deviation is effective from 6:30 a.m. on May 18, 2010 through 5 p.m. on May 27, 2010.

ADDRESSES: Documents mentioned in this preamble as being available in the docket are part of docket USCG-2010-0311 and are available online by going to http://www.regulations.gov, inserting USCG-2010-0311 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Kay Wade, Bridge Administration Branch, Coast Guard; telephone 504-671-2128, e-mail Kay.B.Wade@uscg.mil. If you have questions on viewing the docket, call Renee V. Wright, Program Manager, Docket Operations, telephone 202-366-9826.

SUPPLEMENTARY INFORMATION: The Burlington Northern Santa Fe Railway Company has requested a temporary deviation from the operating schedule of the swing span bridge across the Mermentau River at mile 68.0 in Mermentau, Acadia and Jefferson Parishes, Louisiana. The closure is necessary in order to remove and replace the top flanges on four floor beams on the bridge. This maintenance is essential for the continued operation of the bridge.

Presently, the bridge opens on signal for the passage of vessels, as required by 33 CFR 117.5. This deviation will allow the bridge to remain in the closed-to-navigation position from 6:30 a.m. Tuesday, May 18 through 5 p.m. Thursday, May 27, 2010.

The vertical clearance of the swing span bridge in the closed-to-navigation position is 10.0 feet above Mean High Water. There are no alternate waterway routes available. Navigation on the waterway consists of tugs with tows, fishing vessels and recreational craft. The bridge opens for the passage of navigation an average of 5 times per month. With sufficient notice, the bridge can be opened for emergencies. Due to prior experience and coordination with waterway users, it has been determined that these closures will not have a significant effect on navigation.

In accordance with 33 CFR 117.35(e), the drawbridge must return to its regular operating schedule immediately at the end of the designated time period. This deviation from the operating regulations is authorized under 33 CFR 117.35.

Dated: April 26, 2010.
David M. Frank,
Bridge Administrator.

[FR Doc. 2010-10947 Filed 5-7-10; 8:45 am]

BILLING CODE 9110-04-P